DEPARTMENT OF HOMELAND SECURITY

Customs and Border Protection

[CBP Dec. 08-30]

Container Seals on Maritime Cargo

AGENCY: U.S. Customs and Border Protection, Homeland Security.

ACTION: General notice.

SUMMARY: This document brings attention to the existing statutory requirement by which all maritime containers in transit to the United States are required to be sealed with a seal meeting the ISO/PAS 17712 standard and specifies the date on which the requirement shall take effect.

EFFECTIVE DATE: October 15, 2008.

FOR FURTHER INFORMATION CONTACT: Leslie Fleming Luczkowski, Cargo and Conveyance Security, Office of Field Operations, (202) 344-1927.

SUPPLEMENTARY INFORMATION:

Background

Pursuant to 6 U.S.C. 944, as amended by Section 1701 of Title XVII (“Maritime Cargo”) of the Implementing Recommendations of the 911 Commission Act of 2007 (911 Act), the Secretary of Homeland Security is authorized to establish by regulation minimum standards and procedures for securing containers in transit to the United States. The 911 Act provides that if the Department of Homeland Security (DHS) does not issue an interim final rule for establishing such minimum standards and procedures by April 1, 2008, effective no later than October 15, 2008, all containers in transit to the United States shall be required to be sealed with a seal meeting the International Organization for Standardization Publicly Available Specification 17712 (ISO/PAS 17712) standard for sealing containers. As DHS has not issued regulations establishing minimum standards and procedures for securing such containers at this time, pursuant to 6 U.S.C. 944, all maritime containers in transit to the U.S. by vessel shall be required to be sealed with a seal meeting the ISO/PAS 17712 standard for sealing containers no later than October 15, 2008.

As 6 U.S.C. 944 imposes a self-executing legal requirement, DHS is not required to issue regulations for this requirement to be implemented. This document does not impose additional requirements beyond those found in 6 U.S.C. 944. This document simply serves to bring attention to the existing statutory requirement that all maritime containers in transit to the United States by vessel are required to be sealed with a seal meeting the ISO/PAS 17712 standard and specifies the date on which the requirement takes effect.

The ISO/PAS 17712 Standard

Generally, ISO/PAS 17712 requires that container freight seals meet or exceed certain standards for strength and durability so as to prevent accidental breakage, early deterioration (due to weather conditions, chemical action, etc.) or undetectable tampering under normal usage. ISO/PAS 17712 also requires that each seal be clearly and legibly marked with a unique identification number.

Copies of ISO/PAS 17712 may be purchased from the International Organization for Standardization, 1, rue de Varembé, CH-1211 Geneva 20, Switzerland or the American National Standards Institute, 25 West 43rd Street, New York, NY 10036.

Containers Subject to the 6 U.S.C. 944 Sealing Requirement

All loaded containers, including foreign cargo remaining on board (FROB), arriving by vessel at a port of entry in the United States on or after October 15, 2008, are required to be sealed with a seal meeting the ISO/PAS 17712 standard.

U.S. Customs and Border Protection (CBP) recognizes that there are types of containers that cannot be readily secured by use of a container freight seal meeting the ISO/PAS 17712 standard. These include tanks, non-standard containers (such as open top containers), or containers that simply cannot accommodate a seal meeting the ISO/PAS 17712 standard (such as custom built containers). These types of containers are not subject to the statutory requirement.

Enforcement of the 6 U.S.C. 944 Sealing Requirement

CBP will consider 6 U.S.C. 944 to be violated if a loaded container that is subject to the sealing requirements arrives by vessel at a port of entry in the United States on or after October 15, 2008, either (i) with no seal or (ii) with a seal that does not meet the ISO/PAS 17712 standard. These violations derive from a failure to properly seal the container.

CBP may assess a civil penalty against the party responsible for the violation of 6 U.S.C. 944 under 19 U.S.C. 1595a(b) for the attempted introduction of merchandise into the United States contrary to law.

CBP will phase in penalty assessments for violation of the container sealing requirements.

Trade Act Requirements

CBP also takes this opportunity to remind vessel carriers that pursuant to 19 CFR 4.7(b)(2) and 4.7a(c)(4)(xiv), they must transmit all seal numbers to CBP 24 hours before cargo is laden aboard a vessel at a foreign port via the Vessel Automated Manifest System (AMS).

Dated: August 4, 2008.
Thomas S. Winkowski,
Assistant Commissioner, Office of Field Operations.

[FR Doc. E8-18174 Filed 8-6-08; 8:45 am]

BILLING CODE 9111-14-P